DEPARTMENT OF HOMELAND SECURITY

U.S. Customs and Border Protection

DEPARTMENT OF THE TREASURY

19 CFR Part 12

RIN 1515-AE41

Extension of Import Restrictions Imposed on Certain Archaeological and Ecclesiastical Ethnological Material From Bulgaria

AGENCY: U.S. Customs and Border Protection, Department of Homeland Security; Department of the Treasury.

ACTION: Final rule.

SUMMARY: This document amends the U.S. Customs and Border Protection (CBP) regulations to reflect an extension of import restrictions on certain archaeological and ecclesiastical ethnological material from Bulgaria. The restrictions, which were originally imposed by CBP Dec. 14-01, are due to expire on January 14, 2019. The Assistant Secretary for Educational and Cultural Affairs, United States Department of State, has made the requisite determination for extending the import restrictions that previously existed and entering into a new Memorandum of Understanding (MOU) with Bulgaria to reflect the extension of these import restrictions. The new MOU supersedes and replaces the existing agreement that became effective on January 14, 2014. This new MOU also corrects an inconsistency existing between the previous MOU and the Designated List that describes the types of archaeological and ecclesiastical ethnological material to which the restrictions apply.

DATES: Effective January 14, 2019.

FOR FURTHER INFORMATION CONTACT: For regulatory aspects, Lisa L. Burley, Branch Chief, Cargo Security, Carriers and Restricted Merchandise Branch, Regulations and Rulings, Office of Trade, (202) 325-0215, ot-otrrculturalproperty@cbp.dhs.gov. For operational aspects, Christopher N. Robertson, Branch Chief, Commercial Targeting & Analysis Center, Trade Policy and Programs, Office of Trade, (202) 325-6586, CTAC@cbp.dhs.gov.

SUPPLEMENTARY INFORMATION:

Background

Pursuant to the Convention on Cultural Property Implementation Act, Public Law 97-446, 19 U.S.C. 2601 et seq. (hereinafter, “the Cultural Property Implementation Act” or “the Act”), which implements the 1970 United Nations Educational, Scientific and Cultural Organization (UNESCO) Convention on the Means of Prohibiting and Preventing the Illicit Import, Export and Transfer of Ownership of Cultural Property (hereinafter, “1970 UNESCO Convention” or “the Convention” (823 U.N.T.S. 231 (1972))), the United States entered into a bilateral agreement with the Republic of Bulgaria (Bulgaria) on January 14, 2014, to impose import restrictions on: (1) Archaeological material from Bulgaria ranging in date from 7500 B.C through approximately 1750 A.D.; and (2) ecclesiastical ethnological material from Bulgaria ranging in date from the beginning of the 4th century A.D. through approximately 1750 A.D. On January 16, 2014, U.S. Customs and Border Protection (CBP) published a final rule (CBP Dec. 14-01) in the Federal Register (79 FR 2781), which amended § 12.104g(a) of title 19 of the Code of Federal Regulations (19 CFR 12.104g(a)) to reflect the imposition of these restrictions, and included a list covering certain archaeological and ecclesiastical ethnological material from Bulgaria.

Import restrictions listed at 19 CFR 12.104g(a) are effective for no more than five years beginning on the date on which the agreement enters into force with respect to the United States. This period may be extended for additional periods of not more than five years if it is determined that the factors that justified the initial agreement still pertain and no cause for suspension of the agreement exists.

On June 13, 2018, the United States Department of State proposed in the Federal Register (83 FR 27649) to extend the Memorandum of Understanding (MOU) between the United States and Bulgaria concerning the imposition of import restrictions on certain archaeological and ecclesiastical ethnological material from Bulgaria for an additional five years.

The Assistant Secretary for Educational and Cultural Affairs, United States Department of State, after consultation with and recommendations by the Cultural Property Advisory Committee, determined that the cultural heritage of Bulgaria continues to be in jeopardy from pillage of certain archaeological material and ecclesiastical ethnological material and that the import restrictions should be extended for an additional five years. Subsequently, the United States and Bulgaria entered into and concluded a new MOU, superseding and replacing the existing MOU (dated January 14, 2014), to reflect the extension of those import restrictions for an additional five years. This new MOU is titled: “Memorandum of Understanding Between the Government of the United States of America and the Government of the Republic of Bulgaria Concerning the Imposition of Import Restrictions on Categories of Archaeological and Ecclesiastical Ethnological Material of the Republic of Bulgaria.” This new MOU also corrects an inconsistency existing between the previous MOU and the Designated List that describes the types of archaeological and ecclesiastical ethnological material from Bulgaria to which the restrictions apply. The inconsistency involved the 2014 MOU incorrectly listing the ecclesiastical ethnological material ranging in date from the beginning of 681 A.D. rather than as listed in the Designated List as from the beginning of the 4th century A.D.

Because of the new MOU, CBP is republishing the Designated List of cultural property described in CBP Dec. 14-01 in this document. Accordingly, CBP is amending 19 CFR 12.104g(a) to reflect the extension of these import restrictions and to reflect the appropriate dates for ecclesiastical ethnological material.

The restrictions on the importation of archaeological and ecclesiastical ethnological material from Bulgaria are to continue in effect through January 14, 2024. Importation of such material from Bulgaria continues to be restricted through that date unless the conditions set forth in 19 U.S.C. 2606 and 19 CFR 12.104c are met.

The Designated List and additional information may be found at the following website address: https://eca.state.gov/cultural-heritage-center/cultural-property-advisory-committee/current-import-restrictions by clicking on “Bulgaria.”

Designated List of Archaeological and Ecclesiastical Ethnological Material of Bulgaria

The bilateral agreement between the United States and Bulgaria includes, but is not limited to, the categories of objects described in the designated list set forth below. These categories of objects are subject to the import restrictions set forth above, in accordance with the above explained applicable law and the regulation amended in this document (19 CFR 12.104(g)(a)).

The import restrictions include complete examples of objects and fragments thereof.

The archaeological materials represent the following periods and cultures: Neolithic, Chalcolithic, Bronze Age, Iron Age, Thracian, Hellenistic, Roman, Middle Ages, First Bulgarian Empire, Byzantine, Second Bulgarian Empire, and Ottoman. The ecclesiastical ethnological materials represent the following periods and cultures: Middle Ages, First Bulgarian Empire, Byzantine, Second Bulgarian Empire, and Ottoman. Ancient place-names associated with the region of Bulgaria include Odrysian Kingdom, Thrace, Thracia, Moesia Inferior, Moesia Superior, Coastal Dacia, Inner Dacia, Rhodope, Haemimontus, Europa, Bulgaria, and Eyalet of Rumeli.

I. Archaeological Material

A. Stone

1. Sculpture

a. Architectural Elements—In marble, limestone, gypsum, and other kinds of stone. Types include acroterion, antefix, architrave, base, capital, caryatid, coffer, column, crowning, fountain, frieze, pediment, pilaster, mask, metope, mosaic and inlay, jamb, tile, triglyph, tympanum, basin, and wellhead. Approximate date: First millennium B.C. to 1750 A.D.

b. Monuments—In marble, limestone, granite, sandstone, and other kinds of stone. Types include, but are not limited to, votive statues, funerary, documentary, votive stelae, military columns, herms, stone blocks, bases, and base revetments. These may be painted, carved with borders, carry relief sculpture, and/or carry dedicatory, documentary, official, or funerary inscriptions, written in various languages including Thracian, Proto-Bulgarian, Greek, Latin, Hebrew, Turkish, and Bulgarian. Approximate date: First millennium B.C. through 1750 A.D.

c. Sarcophagi and ossuaries—In marble, limestone, and other kinds of stone. Some have figural scenes painted on them, others have figural scenes carved in relief, and some are plain or just have decorative moldings. Approximate date: Third millennium through 1750 A.D.

d. Large Statuary—Primarily in marble, also in limestone and sandstone. Subject matter includes human and animal figures and groups of figures in the round. Common types are large-scale, free-standing statuary from approximately 1 m to 2.5 m in height and life-size busts (head and shoulders of an individual). Approximate date: Third millennium B.C. through 1750 A.D.

e. Small Statuary and Figurines—In marble and other stone. Subject matter includes human and animal figures and groups of figures in the round. These range from approximately 10 cm to 1 m in height. Approximate date: Neolithic through 1750 A.D.

f. Reliefs—In marble and other stone. Types include carved relief vases and slabs carved with subject matter such as a horseman, vegetative, floral, or decorative motifs, sometimes inscribed. Used for architectural decoration, funerary, votive, or commemorative monuments. Approximate date: Third millennium B.C. through 1750 A.D.

g. Furniture—In marble and other stone. Types include tables, thrones, and beds. Approximate date: Third millennium B.C. through 1750 A.D.

2. Vessels—In marble, steatite, rock crystal, and other stone. These may belong to conventional shapes such as bowls, cups, jars, jugs, and lamps, or may occur in the shape of a human or animal, or part of human or animal. Approximate date: Neolithic through 1750 A.D.

3. Tools, Instruments, and Weapons—In flint, quartz, obsidian, and other hard stones. Types of stone tools include large and small blades, borers, scrapers, sickles, awls, harpoons, cores, loom weights, and arrow heads. Ground stone types include grinders (e.g., mortars, pestles, millstones, whetstones), choppers, axes, hammers, moulds, and mace heads. Approximate date: Neolithic through 1750 A.D.

4. Seals and beads—In marble, limestone, and various semiprecious stones including rock crystal, amethyst, jasper, agate, steatite, and carnelian. May be incised or cut as gems or cameos. Approximate date: Neolithic through 1750 A.D.

B. Metal

1. Sculpture

a. Large Statuary—Primarily in bronze, including fragments of statues. Subject matter includes human and animal figures, and groups of figures in the round. Common types are large-scale, free-standing statuary from approximately 1 m to 2.5 m in height and life-size busts (head and shoulders of an individual). Approximate date: Fifth millennium B.C. through 1750 A.D.

b. Small Statuary and Figurines—Subject matter includes human and animal figures, groups of figures in the round, masks, plaques, and bronze hands of Sabazios. These range from approximately 10 cm to 1 m in height. Approximate date: First millennium B.C. through Roman.

c. Reliefs—In gold, bronze, or lead. Types include burial masks, leaves, and appliqué with images of gods, mythical creatures, etc. First millennium B.C. through Roman.

d. Inscribed or Decorated Sheet Metal—In bronze or lead. Engraved inscriptions, “military diplomas,” and thin metal sheets with engraved or impressed designs often used as attachments to furniture. Approximate date: First millennium B.C. through 1750 A.D.

2. Vessels—In bronze, gold, and silver. Bronze may be gilded or silver-plated. These may belong to conventional shapes such as bowls, cups, jars, jugs, strainers, cauldrons, candelabras, and lamps, or may occur in the shape of a human or animal or part of a human or animal. Approximate date: Fifth millennium B.C. through 1750 A.D.

3. Personal Ornaments—In copper, bronze, gold, and silver. Bronze may be gilded or silver-plated. Types include torques, rings, beads, pendants, belts, belt buckles, belt ends/appliqués, earrings, ear caps, diadems, spangles, straight and safety pins, necklaces, mirrors, wreaths, cuffs, pectoral crosses, and beads. Approximate date: Fifth millennium B.C. through 1750 A.D.

4. Tools—In copper, bronze and iron. Types include knives, hooks, weights, axes, scrapers (strigils), trowels, keys, dies for making coins, and the tools of physicians and artisans such as carpenters, masons and metal smiths. Approximate date: Fifth millennium B.C. through 1750 A.D.

5. Weapons and Armor—In copper, bronze and iron. Types include both launching weapons (harpoons, spears and javelins) and weapons for hand-to-hand combat (swords, daggers, battle axes, rapiers, maces etc.). Armor includes body armor, such as helmets, cuirasses, shin guards, and shields, and horse armor/chariot decorations often decorated with elaborate engraved, embossed, or perforated designs. Approximate date: Fifth millennium B.C. through 1750 A.D.

6. Seals—In lead, tin, copper, bronze, silver, and gold. Types include rings, amulets, stamps, and seals with shank. They pertain to individuals, kings, emperors, patriarchs, and other spiritual leaders. Approximate date: Bronze Age through 1750 A.D.

7. Coins—In copper, bronze, silver and gold. Many of the listed coins with inscriptions in Greek can be found in B. Head, Historia Numorum: A Manual of Greek Numismatics (London, 1911) and C.M. Kraay, Archaic and Classical Greek Coins (London, 1976). Many of the Roman provincial mints in modern Bulgaria are covered in I. Varbanov, Greek Imperial Coins I: Dacia, Moesia Superior, Moesia Inferior (Bourgas, 2005), id., Greek Imperial Coins II: Thrace (from Abdera to Pautalia) (Bourgas, 2005), id., Greek Imperial Coins III: Thrace (from Perinthus to Trajanopolis), Chersonesos Thraciae, Insula Thraciae, Macedonia (Bourgas 2007). A non-exclusive list of pre-Roman and Roman mints include Mesembria (modern Nesembar), Dionysopolis (Balchik), Marcianopolis (Devnya), Nicopolis ad Istrum (near Veliko Tarnovo), Odessus (Varna), Anchialus (Pomorie), Apollonia Pontica (Sozopol), Cabyle (Kabile), Deultum (Debelt), Nicopolis ad Nestum (Garmen), Pautalia (Kyustendil), Philippopolis (Plovdiv), Serdica (Sofia), and Augusta Traiana (Stara Zagora). Later coins may be found in A. Radushev and G. Zhekov, Catalogue of Bulgarian Medieval Coins IX-XV c. (Sofia 1999) and J. Youroukova and V. Penchev, Bulgarian Medieval Coins and Seals (Sofia 1990).

a. Pre-monetary media of exchange including “arrow money,” bells, and bracelets. Approximate date: 13th century B.C. through 6th century B.C.

b. Thracian and Hellenistic coins struck in gold, silver, and bronze by city-states and kingdoms that operated in the territory of the modern Bulgarian state. This designation includes official coinages of Greek-using city-states and kingdoms, Sycthian and Celtic coinage, and local imitations of official issues. Also included are Greek coins from nearby regions that are found in Bulgaria. Approximate date: 6th century B.C. through the 1st century B.C.

c. Roman provincial coins—Locally produced coins usually struck in bronze or copper at mints in the territory of the modern state of Bulgaria. May also be silver, silver plate, or gold. Approximate date: 1st century B.C. through the 4th century A.D.

d. Coinage of the First and Second Bulgarian Empires and Byzantine Empire—Struck in gold, silver, and bronze by Bulgarian and Byzantine emperors at mints within the modern state of Bulgaria. Approximate date: 4th century A.D. through A.D. 1396.

e. Ottoman coins—Struck at mints within the modern state of Bulgaria. Approximate date: A.D. 1396 through A.D. 1750.

C. Ceramic

1. Sculpture

a. Architectural Elements—Baked clay (terracotta) elements used to decorate buildings. Elements include tiles, acroteria, antefixes, painted and relief plaques, metopes, cornices, roof tiles, pipes, and revetments. May be painted as icons. Also included are wall and floor plaster decorations. Approximate date: First millennium B.C. through 1750 A.D.

b. Large Statuary—Subject matter includes human and animal figures and groups of figures in the round. Common types are large-scale, free-standing statuary from approximately 1 m to 2.5 m in height and life-size busts (head and shoulders of an individual). Approximate date: Neolithic through 6th century A.D.

c. Small Statuary—Subject matter is varied and includes human and animal figures, human body parts, groups of figures in the round, shrines, houses, and chariots. These range from approximately 10 cm to 1 m in height. Approximate date: Neolithic through 6th century A.D.

2. Vessels

a. Neolithic and Chalcolithic Pottery—Handmade, decorated with appliqué and/or incision, sometimes decorated with a lustrous burnish or added paint. These come in a variety of shapes from simple bowls and vases with three or four legs, anthropomorphic and zoomorphic vessels, to handled scoops and large storage jars.

b. Bronze Age through Thracian Pottery—Handmade and wheel-made pottery in shapes for tableware, serving, storing, and processing, with lustrous burnished, matte, appliqué, incised, and painted decoration.

c. Black Figure and Red Figure Pottery—These are made in a specific set of shapes (e.g., amphorae, kraters, hydriae, oinochoi, kylikes) decorated with black painted figures on a clear clay ground (Black Figure), decorative elements in reserve with background fired black (Red Figure), and multi-colored figures painted on a white ground (White Ground). Approximate date: First millennium B.C.

d. Terra sigillata—Is a high quality table ware made of red to reddish brown clay, and covered with a glossy slip. Approximate date: Roman.

e. Seals—On the handles and necks of bottles (amphorae). First millennium B.C. through Middle Ages.

f. Middle Ages—Includes undecorated plain wares, utilitarian wares, tableware, serving and storage jars, and special containers such as pilgrim flasks. These can be matte painted or glazed, including incised as “sgraffitto,” stamped, and with elaborate polychrome decorations using floral, geometric, human, and animal motifs.

D. Bone, Ivory, Horn, and other Organics

1. Small Statuary and figurines—Subject matter includes human and animal figures and groups of figures in the round. These range from approximately 10 cm to 1 m in height. Approximate date: Neolithic through Middle Ages.

2. Personal Ornaments—In bone, ivory, and spondylus shell. Types include amulets, combs, pins, spoons, small containers, bracelets, buckles, and beads. Approximate date: Neolithic through Middle Ages.

3. Seals and Stamps—Small devices with at least one side engraved with a design for stamping or sealing; they can be discoid, cuboid, conoid, or in the shape and animals or fantastic creatures (e.g., a scarab). Approximate date: Neolithic through Middle Ages.

4. Tools and Weapons—In bone and horn. Needles, awls, chisels, axes, hoes, picks, and harpoons. Approximate date: Neolithic through Middle Ages.

E. Glass and Faience

1. Vessels—Shapes include small jars, bowls, animal shaped, goblet, spherical, candle holders, and perfume jars (unguentaria). Approximate date: First millennium B.C. through 1750 A.D.

2. Beads—Globular and relief beads. Approximate date: Bronze Age through Middle Ages.

F. Paintings

1. Domestic and Public Wall Painting—These are painted on mudplaster, lime plaster (wet—buon fresco—and dry—secco fresco); types include simple applied color, bands and borders, landscapes, scenes of people and/or animals in natural or built settings. Approximate date: First millennium B.C. through 1750 A.D.

2. Tomb Paintings—Paintings on plaster or stone, sometimes geometric or floral but usually depicting gods, goddesses, or funerary scenes. Approximate date: First millennium B.C. through 6th century A.D.

G. Mosaics—Floor mosaics including landscapes, scenes of humans or gods, and activities such as hunting and fishing. There may also be vegetative, floral, or decorative motifs. Approximate date: First millennium B.C. through 1750 A.D.

II. Ecclesiastical Ethnological Material

The categories of Bulgarian ecclesiastical ethnological objects on which import restrictions are imposed were made from the beginning of the 4th century A.D. through approximately 1750 A.D.

A. Stone

1. Architectural elements—In marble and other stone, including thrones, upright “closure” slabs, circular marking slabs omphalion, altar partitions, and altar tables which may be decorated with crosses, human, or animal figures.

2. Monuments—In marble and other stone; types such as ritual crosses, funerary inscriptions.

3. Vessels—Containers for holy water.

4. Reliefs—In steatite or other stones, carved as icons in which religious figures predominate in the figural decoration.

B. Metal

1. Reliefs—Cast as icons in which religious figures predominate in the figural decoration.

2. Boxes—Containers of gold and silver, used as reliquaries for sacred human remains.

3. Vessels—Containers of lead, which carried aromatic oils and are called “pilgrim flasks.”

4. Ceremonial paraphernalia—In bronze, silver, and gold including censers (incense burners), book covers, processional crosses, liturgical crosses, archbishop's crowns, buckles, and chests. These are often decorated with molded or incised geometric motifs or scenes from the Bible, and encrusted with semi-precious or precious stones. The gems themselves may be engraved with religious figures or inscriptions. Ecclesiastical treasure may include all of the above, as well as rings, earrings, and necklaces (some decorated with ecclesiastical themes) and other implements (e.g., spoons, baptism vessels, chalices).

C. Ceramic—Vessels which carried aromatic oils and are called “pilgrim flasks.”

D. Bone And Ivory Objects—Ceremonial paraphernalia including boxes, reliquaries (and their contents) plaques, pendants, candelabra, stamp rings, crosses. Carved and engraved decoration includes religious figures, scenes from the Bible, and floral and geometric designs.

E. Wood—Wooden objects include architectural elements such as painted wood screens (iconostases), carved doors, crosses, painted wooden beams from churches or monasteries, furniture such as thrones, chests and other objects, including musical instruments. Religious figures predominate in the painted and carved figural decoration. Ecclesiastical furniture and architectural elements may also be decorated with geometric or floral designs.

F. Glass—Vessels of glass include lamps and candle sticks.

G. Textile—Robes, vestments and altar clothes are often of a fine fabric and richly embroidered in silver and gold. Embroidered designs include religious motifs and floral and geometric designs.

H. Parchment—Documents such as illuminated ritual manuscripts occur in single leaves or bound as a book or “codex” and are written or painted on animal skins (cattle, sheep/goat, camel) known as parchment.

I. Painting

1. Wall paintings—On various kinds of plaster and which generally portray religious images and scenes of Biblical events. Surrounding paintings may contain animal, floral, or geometric designs, including borders and bands.

2. Panel Paintings (Icons)—Smaller versions of the scenes on wall paintings, and may be partially covered with gold or silver, sometimes encrusted with semi-precious or precious stones and are usually painted on a wooden panel, often for inclusion in a wooden screen (iconastasis). May also be painted on ceramic.

J. Mosaics—Wall mosaics generally portray religious images and scenes of Biblical events. Surrounding panels may contain animal, floral, or geometric designs. They are made from stone and glass cut into small bits (tesserae) and laid into a plaster matrix.

Inapplicability of Notice and Delayed Effective Date

This amendment involves a foreign affairs function of the United States and is, therefore, being made without notice or public procedure under 5 U.S.C. 553(a)(1). For the same reason, a delayed effective date is not required under 5 U.S.C. 553(d)(3).

Regulatory Flexibility Act

Because no notice of proposed rulemaking is required, the provisions of the Regulatory Flexibility Act (5 U.S.C. 601 et seq.) do not apply.

Executive Orders 12866 and 13771

CBP has determined that this document is not a regulation or rule subject to the provisions of Executive Order 12866 or Executive Order 13771 because it pertains to a foreign affairs function of the United States, as described above, and therefore is specifically exempted by section 3(d)(2) of Executive Order 12866 and section 4(a) of Executive Order 13771.

Signing Authority

This regulation is being issued in accordance with 19 CFR 0.1(a)(1), pertaining to the Secretary of the Treasury's authority (or that of his or her delegate) to approve regulations related to customs revenue functions.

List of Subjects in 19 CFR Part 12

Cultural property, Customs duties and inspection, Imports, Prohibited merchandise.

Amendment to CBP Regulations

For the reasons set forth in the preamble, part 12 of title 19 of the Code of Federal Regulations (19 CFR part 12) is amended as follows:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624;

* * * * *

Sections 12.104 through 12.104i also issued under 19 U.S.C. 2612;

* * * * *

2. In § 12.104g, in the table in paragraph (a), the entry for Bulgaria is revised to read as follows:

§ 12.104g Specific items or categories designated by agreements or emergency actions.

(a) * * *

State party | Cultural property | Decision No.
* * * * * * *
Bulgaria | Archaeological material from Bulgaria ranging in date from 7500 B.C. through approximately 1750 A.D. and ecclesiastical ethnological material from Bulgaria ranging in date from the beginning of the 4th century A.D. through approximately 1750 A.D | CBP Dec. 19-01.
* * * * * * *

* * * * *

Kevin K. McAleenan,
Commissioner, U.S. Customs and Border Protection.
Approved: January 8, 2019.
David J. Kautter,
Assistant Secretary of the Treasury.

[FR Doc. 2019-00064 Filed 1-11-19; 8:45 am]

BILLING CODE 9111-14-P